DEPARTMENT OF THE INTERIOR

National Park Service

[N6534; NPS-WASO-NAGPRA-NPS0041088; PPWOCRADN0-PCU00RP14.R50000]

Notice of Inventory Completion: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects from unknown sites in Tennessee and has determined that there is a cultural affiliation between the human remains and associated funerary objects and Indian Tribes or Native Hawaiian organizations in this notice.

DATES: Repatriation of the human remains and associated funerary objects in this notice may occur on or after October 16, 2025.

ADDRESSES: Send written requests for repatriation of the human remains and associated funerary objects in this notice to Phillip R. Hodge, Tennessee Department of Environment and Conservation, Division of Archaeology, 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, 60 individuals have been identified. The one associated funerary object is one lot of artifacts.

Unknown Sites, TN

Human remains representing, at least, two individuals were donated to TDEC-DOA by the University of Georgia in 2025 with no record as to the original circumstances of collection.

Human remains representing, at least, three individuals, and one lot of artifacts are identified on storage boxes as being from the “Yeatman Collection” and were donated to TDEC-DOA by archaeology faculty from Sewanee, the University of the South.

Human remains representing, at least, 23 individuals were donated to TDEC-DOA with no record as to the timing, donor, or original circumstances of collection.

Human remains representing, at least, one individual were donated to TDEC-DOA by the Mississippi Department of History and Archives for repatriation.

Human remains representing, at least, one individual were discovered in flea market in Virginia, with an alleged provenience of Tennessee. They were delivered anonymously to a member of Tennessee Commission on Indian Affairs, and then transferred to TDEC-DOA for repatriation.

Human remains representing, at least, one individual were donated to the Rocky Mount Historical Association and transferred to TDEC-DOA in 1999.

Human remains representing, at least, one individual were collected by private individuals and donated to TDEC-DOA in 2008.

Human remains representing, at least, two individuals were donated to TDEC-DOA by Wake Forest University for repatriation. The box containing the remains is labeled “40M1.”

Human remains representing, at least, four individuals were donated to TDEC-DOA by the Scaritt Museum in 1992.

Human remains representing, at least, eight individuals were donated to TDEC-DOA by faculty from East Tennessee State University in 2023.

Human remains representing, at least, two individuals were donated to the TDEC-DOA by a private archaeological consultant in 2010.

Human remains representing, at least, four individuals were collected by private individuals and donated to TDEC-DOA in 2010.

Human remains representing, at least, eight individuals from the collection of the Tennessee State Museum were transferred to TDEC-DOA in 1995 (MNI=1) and 2021 (MNI=7).

No further information exists as to the geographic origins or circumstances of collection for any of the above-listed materials. There is no known exposure to hazardous substances or treatments.

Cultural Affiliation

Based on the information available and the results of consultation, cultural affiliation is reasonably identified by the geographical location or acquisition history of the human remains and associated funerary objects described in this notice.

Determinations

The TCED-DOA has determined that:

• The human remains described in this notice represent the physical remains of, at least, 60 individuals of Native American ancestry.

• The one lot of objects described in this notice are reasonably believed to have been placed intentionally with or near individual human remains at the time of death or later as part of the death rite or ceremony.

• There is a connection between the human remains and associated funerary objects described in this notice and the Cherokee Nation; Eastern Band of Cherokee Indians; and the United Keetoowah Band of Cherokee Indians of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 16, 2025. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: September 4, 2025.
Melanie O'Brien,
Manager, National NAGPRA Program.

[FR Doc. 2025-17880 Filed 9-15-25; 8:45 am]

BILLING CODE 4312-52-P